DEPARTMENT OF COMMERCE

International Trade Administration

DEPARTMENT OF THE INTERIOR

Allocation of Duty-Exemptions for Calendar Year 2013 for Watch Producers Located in the United States Virgin Islands

AGENCY: Import Administration, International Trade Administration, Department of Commerce; Office of Insular Affairs, Department of the Interior.

ACTION: Notice.

SUMMARY: This action allocates calendar year 2013 duty exemptions for watch assembly producers (“program producers”) located in the United States Virgin Islands (“USVI”) pursuant to Public Law 97-446, as amended by Public Law 103-465, Public Law106-36 and Public Law 108-429 (“the Act”).

FOR FURTHER INFORMATION CONTACT: Supriya Kumar, Subsidies Enforcement Office; phone number: (202) 482-3530; fax number: (202) 501-7952; and email address: Supriya.Kumar@trade.gov.

SUPPLEMENTARY INFORMATION: Pursuant to the Act, the Departments of the Interior and Commerce (“the Departments”) share responsibility for the allocation of duty exemptions among program producers in the United States insular possessions and the Northern Mariana Islands. In accordance with Section 303.3(a) of the regulations (15 CFR 303.3(a)), the total quantity of duty-free insular watches and watch movements for calendar year 2013 is 1,866,000 units for the USVI. This amount was established in Changes in Watch, Watch Movement and Jewelry Program for the U.S. Insular Possessions, 65 FR 8048 (February 17, 2000). There are currently no program producers in Guam, American Samoa or the Northern Mariana Islands.

The criteria for the calculation of the calendar year 2013 duty-exemption allocations among program producers within a particular territory are set forth in Section 303.14 of the regulations (15 CFR 303.14). The Departments have verified and, where appropriate, adjusted the data submitted in application form ITA-334P by USVI program producers and have inspected these producers' operations in accordance with Section 303.5 of the regulations (15 CFR 303.5).

In calendar year 2012, USVI program producers shipped 53,347 watches and watch movements into the customs territory of the United States under the Act. The dollar amount of corporate income taxes paid by USVI program producers during calendar year 2012, and the creditable wages and benefits paid by these producers during calendar year 2012 to residents of the territory was a combined total of $1,105,504. The calendar year 2013 USVI annual duty exemption allocations, based on the data verified by the Departments, are as follows:

Program producer | Annual allocation
Belair Quartz, Inc | 500,000

The balance of the units allocated to the USVI is available for new entrants into the program or existing program producers who request a supplement to their allocation.

Dated: February 27, 2013.
Gregory W. Campbell,
Acting Director, Office of Policy, Import Administration, International Trade Administration, Department of Commerce.
Dated: February 27, 2013.
Nikolao Pula,
Director of Office of Insular Affairs, Department of the Interior.

[FR Doc. 2013-05063 Filed 3-4-13; 8:45 am]

BILLING CODE 3510-DS-P; 4310-93-P